DEPARTMENT OF JUSTICE

Office of Justice Programs

Agency Information Collection Activities: Proposed Collection; Comments Requested

ACTION: 30-day notice of information collection under review: Revision of a currently approved collection; Firearms Addendum to the Arrestee Drug Abuse Monitoring Program (ADAM).

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register (Volume 66, Number 47, page 14216) on March 9, 2001, allowing for a 60 day comment period.

The purpose of this notice is to allow for an additional 30 days for public comment until November 9, 2001. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Additionally, comments may be submitted to OMB via Officer, Washington, DC 20503. Additionally, comments may be submitted to OMB via facsimile to (202)-395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Firearms Addendum to the Arrestee Drug Abuse Monitoring (ADAM) Program Instrument.

(3) Agency form number, if any, and the applicable component of the Department of Justice sponsoring the collection: The form number is AD-1. The sponsoring component of the Department of Justice is the Office of Research and Evaluation, National Institute of Justice.

(4) Affected public who will be asked or required to respond, as well as a brief abstract: Misdemeanor and felony arrestees in city and county jails. The ADAM program monitors the extent and types of drug use among arrestees. Currently the program operates in 38 counties. Data are collected in each county every three months from a new, county-based representative sample of arrestees. Participation is voluntary and confidential and data collected include a personal interview and urine specimen.

In the next 6 months, OJP proposes to introduce a supplemental instrument to the currently approved ADAM instrument (OMB No. 1121-0137). This supplemental instrument is termed the Firearms Addendum and is intended to collect information from ADAM, program arrestees about their participation in legal and illegal firearms markets. The respondents to the firearms questionnaire will be arrestees selected for the ADAM study, who are asked to participate in a supplemental interview immediately following the ADAM interview. The firearms instrument initially will be implemented in 2 ADAM sites for testing, and subsequently finalized and made available to all ADAM sites for their use.

(5) An estimate of the total number of respondents and amount of time estimated for an average respondent to respond/reply: The total number of respondents is estimated to be a maximum of 70,000 (revised from current inventory of 100,000 respondents). Each response for the core instrument averages 30 minutes. The Firearms Addendum questionnaire will be administered to a maximum of 52,550 respondents at full implementation, taking 10 minutes a response.

(6) An estimate of the total public burden (in hours) associated with the collection: 43,750 hours (for core questionnaire and Firearms Addendum together).

If additional information is required contact: (name), Department Clearance Officer, Information Management and Security Staff, Justice Management Division, United States Department of Justice, 601 D Street NW, Patrick Henry Building, Suite 1600, NW, Washington, DC 20530.

Dated: October 3, 2001.
Brenda E. Dyer,
Department Deputy Clearance Officer, United States Department of Justice.

[FR Doc. 01-25330 Filed 10-09-01; 8:45 am]

BILLING CODE 4410-18-M